DEPARTMENT OF COMMERCE

International Trade Administration

[C-533-872]

Finished Carbon Steel Flanges From India: Final Results of Countervailing Duty Administrative Review; 2020; Correction

AGENCY: Enforcement and Compliance, International Trade Administration, Department of Commerce.

ACTION: Notice; correction.

SUMMARY: The U.S. Department of Commerce (Commerce) published a notice in the Federal Register on December 15, 2022, in which Commerce announced the final results of the administrative review of the countervailing duty (CVD) order on finished carbon steel flanges (flanges) from India covering the period January 1, 2020, through December 31, 2020. This notice corrects the names of three companies not selected for individual examination listed in Appendix II.

DATES: Applicable December 15, 2022.

FOR FURTHER INFORMATION CONTACT: James Hepburn or Preston Cox, AD/CVD Operations, Office VI, Enforcement and Compliance, International Trade Administration, U.S. Department of Commerce, 1401 Constitution Avenue NW, Washington, DC 20230; telephone: (202) 482-1882 or (202) 482-5041, respectively.

SUPPLEMENTARY INFORMATION:

Corrections

In the Federal Register of December 15, 2022, in FR Doc 2022-27223, on page 76611, in the second column under Appendix II, make the following corrections: (1) revise the company name “Punjab Steel Works” to “Punjab Steel Works (PSW)”; (2) revise the company name “Raaj Sagar Steels” to “Raaj Sagar Steel”; and (3) revise the company name “Tirupati Forge Pvt. Ltd.” to “Tirupati Forge.”

Background

On December 15, 2022, Commerce published in the Federal Register the final results of the administrative review of the CVD order on flanges covering the period January 1, 2020, through December 31, 2020.¹ In the notice, Commerce inadvertently included incorrect names of three companies not selected for individual examination. In Appendix II, we incorrectly listed the companies “Punjab Steel Works (PSW),” “Raaj Sagar Steel,” and “Tirupati Forge” as “Punjab Steel Works,” “Raaj Sagar Steels,” and “Tirupati Forge Pvt. Ltd.,” respectively.²

¹ See Finished Carbon Steel Flanges from India: Final Results of Countervailing Duty Administrative Review; 2020, 87 FR 76610 (December 15, 2022).

² See Memorandum, “Phone Conversation with an Interested Party,” dated September 13, 2022.

Notification to Interested Parties

This notice is issued and published in accordance with sections 751(a)(1) and 777(i)(1) of the Tariff Act of 1930, as amended.

Dated: December 23, 2022.
Lisa W. Wang,
Assistant Secretary for Enforcement and Compliance.

[FR Doc. 2022-28405 Filed 12-28-22; 8:45 am]

BILLING CODE 3510-DS-P